DEPARTMENT OF AGRICULTURE

Forest Service

Ochoco, Umatilla and Wallowa-Whitman National Forest; Oregon; Blue Mountain Forest Resiliency Project

AGENCY: Forest Service, USDA.

ACTION: Withdrawal of notice of intent to prepare an Environmental Impact Statement.

SUMMARY: The Ochoco, Umatilla and Wallowa-Whitman National Forests are withdrawing their Notice of Intent (NOI) to prepare an Environmental Impact Statement (EIS) for the Blue Mountain Forest Resiliency Project. The original NOI was published in the Federal Register on February 5, 2016.

FOR FURTHER INFORMATION CONTACT: Questions concerning this notice should be directed to David Hatfield via mail at Umatilla National Forest Supervisors Office, 72510 Coyote Rd Pendleton, OR 97801; via telephone at 541-278-3855; or via email at david.hatfield@usda.gov.

SUPPLEMENTARY INFORMATION: The forest supervisors of the Ochoco, Umatilla and Wallowa-Whitman National Forests have modified the Forest Resiliency Project planning approach from one dedicated interdisciplinary team working across portions of the three national forests to each national forest addressing individual restoration needs through their regular program of work.

The forest supervisors decided the most efficient way to ensure successful completion and implementation of this important restoration work would be to transfer all existing data and completed analysis to individual interdisciplinary teams on each forest to more efficiently start and complete local restoration efforts. This decision will also allow each forest to work closely with local communities during project development to ensure the right work is completed in the right locations to increase forest health and productivity, while also contributing to local economies and protecting natural resources. A new NOI will be published for any projects being considered for analysis under an EIS.

Dated: July 16, 2019.
Frank R. Beum,
Acting Associate Deputy Chief, National Forest System.

[FR Doc. 2019-16712 Filed 8-5-19; 8:45 am]

BILLING CODE 3411-15-P